DEPARTMENT OF TRANSPORTATION

Connected Vehicle Reference Implementation Architecture Workshop; Notice of Public Meeting

AGENCY: ITS Joint Program Office, Office of the Assistant Secretary for Research and Technology, U.S. Department of Transportation.

ACTION: Notice.

The U.S. Department of Transportation (USDOT) Intelligent Transportation System Joint Program Office (ITS JPO) will host a free Connected Vehicle Reference Implementation Architecture (CVRIA) public workshop meeting to present and seek input on candidate Connected Vehicle (CV) interfaces for standardization. The public meeting will take place February 19, 2014, 8:30 a.m.-5:00 p.m. PST and February 20, 2014, 8:30 a.m.-4:00 p.m. PST at the Holiday Inn Golden Gateway Hotel, 1500 Van Ness Ave, San Francisco, California 94109.

To register for the CVRIA Workshop, please visit www.itsa.org/cvriaregistration.

The workshop is designed to solicit feedback from stakeholders who will be involved with the development, implementation, or operation of CV technologies and applications. The results of an initial analysis will be presented and feedback sought during this public workshop. A preliminary draft plan will be provided to registrants before the workshop in order to facilitate technical discussions. Participants are encouraged to sign up early to ensure that they receive the read-ahead materials in a timely fashion. The workshop will focus on discussion of the CV applications captured in the CVRIA; the interfaces identified and defined in the CVRIA; a crosswalk between candidate interfaces and standards; standards gap analysis and emerging standards needs; and USDOT policy in pursuing standardization. The project is sponsored and led by the USDOT's ITS JPO as part of ITS Architecture and Standards and Systems Engineering and Test Bed Program efforts.

About the Connected Vehicle Research Program at USDOT

Connected Vehicle research at USDOT is a multimodal program that involves using wireless communication between vehicles, infrastructure, and personal communications devices to improve safety, mobility, and environmental sustainability. The CVRIA project is sponsored and led by the ITS JPO, under the management of the ITS Architecture and Standards Programs and in cooperation with the Systems Engineering and Test Bed Programs. To learn more about the Connected Vehicle program please visit www.its.dot.gov.

For further information, please contact Carlos Alban, Transportation Program Specialist, Intelligent Transportation Society of America, 1100 New Jersey Ave. SE., Suite 850, Washington, DC 20003, 202-721-4223, calban@itsa.org.

Issued in Washington, DC, on the 30th day of January 2014.
John Augustine,
Managing Director, ITS Joint Program Office.

[FR Doc. 2014-02338 Filed 2-4-14; 8:45 am]

BILLING CODE 4910-HY-P